DEPARTMENT OF ENERGY

Federal Energy Regulatory Commission

18 CFR Parts 35 and 37

[Docket Nos. RM05-17-000 and RM05-25-000; Order No. 890]

Preventing Undue Discrimination and Preference in Transmission Service

Issued April 6, 2007.

AGENCY: Federal Energy Regulatory Commission, DOE.

ACTION: Final rule; Notice of electronic filing guidelines.

SUMMARY: On February 16, 2007, the Federal Energy Regulatory Commission issued Order No. 890, which amended the regulations and the pro forma open access transmission tariff (OATT). This notice contains guidelines for the electronic submission of OATT tariffs and other information required by Order No. 890.

DATES: Effective Date: These guidelines became effective on April 6, 2007.

FOR FURTHER INFORMATION CONTACT:

Daniel Hedberg (Technical Information), Office of Energy Markets and Reliability, Federal Energy Regulatory Commission, 888 First Street, NE., Washington, DC 20426, (202) 502-6243.

W. Mason Emnett (Legal Information), Office of the General Counsel—Energy Markets, Federal Energy Regulatory Commission, 888 First Street, NE., Washington, DC 20426, (202) 502-6540.

Kathleen Barrón (Legal Information), Office of the General Counsel—Energy Markets, Federal Energy Regulatory Commission, 888 First Street, NE., Washington, DC 20426, (202) 502-6461.

SUPPLEMENTARY INFORMATION:

Notice of Electronic Filing Guidelines for Open Access Transmission Tariffs and Related Filings Pursuant to Commission Order No. 890 and 18 CFR Part 35 and 37

On February 16, 2007, the Federal Energy Regulatory Commission issued Order No. 890,¹ which amends the regulations and the pro forma open access transmission tariff (OATT) to ensure that transmission services are provided on a basis that is just, reasonable and not unduly discriminatory or preferential.

¹ Preventing Undue Discrimination and Preference in Transmission Service, Order No. 890, 72 FR 12266 (March 15, 2007), FERC Stats. & Regs. ¶ 31,241 (2007), reh'g pending.

This document contains guidelines for the electronic submission of OATT tariffs and other information required by Order No. 890. The table attached to the guidelines includes specific filing instructions and references to the pertinent paragraph(s) in Order No. 890 for each type of submission.

The Commission's electronic filing system can be accessed on its Web site at: http://www.ferc.gov/docs-filing/docs-filing.asp. An eRegistration account is required for all persons logging in to the system and for persons who will be listed as a primary contact or person responsible for the filing. At the present time, only public information can be submitted via the efiling system. However, all Order No. 890 OATT filings are considered public. The Commission prefers filings in text-searchable formats.

The electronic filing guidelines attached to this notice will also be available on the Commission's Web site at http://www.ferc.gov/help/how-to.asp and updated when necessary.

Philis J. Posey,
Acting Secretary.

Filing Guidelines for Open Access Transmission Tariffs and Related Filings Pursuant to Commission Order No. 890 and 18 CFR Part 35 and 37

On February 16, 2007, the Federal Energy Regulatory Commission issued Order No. 890,² which amends the regulations and the pro forma open access transmission tariff (OATT) adopted in Order Nos. 888 ³ and 889 ⁴ to ensure that transmission services are provided on a basis that is just, reasonable and not unduly discriminatory or preferential.

² Preventing Undue Discrimination and Preference in Transmission Service, Order No. 890, 72 FR 12266 (March 15, 2007), FERC Stats. & Regs. ¶ 31,241 (2007), reh'g pending.

³ Promoting Wholesale Competition Through Open Access Non-discriminatory Transmission Services by Public Utilities; Recovery of Stranded Costs by Public Utilities and Transmitting Utilities, Order No. 888, 61 FR 21540 (May 10, 1996), FERC Stats. & Regs. ¶ 31,036 (1996), order on reh'g, Order No. 888-A, 62 FR 12274 (Mar. 14, 1997), FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group v. FERC, 225 F.3d 667 (D.C. Cir. 2000) (TAPS v. FERC), aff'd sub nom. New York v. FERC, 535 U.S. 1 (2002).

⁴ Open Access Same-Time Information System (Formerly Real-Time Information Networks) and Standards of Conduct, Order No. 889, 61 FR 21737 (May 10, 1996), FERC Stats. & Regs. ¶ 31,035 (1996), order on reh'g, Order No. 889-A, FERC Stats. & Regs. ¶ 31,049 (1997), order on reh'g, Order No. 889-B, 81 FERC ¶ 61,253 (1997).

This document contains guidelines for the electronic submission of OATT tariffs and other information required by Order No. 890. The attached table includes specific filing guidelines and references to the pertinent paragraph(s) in Order No. 890 for each type of submission.

The Commission's electronic filing system can be accessed on its web site at: http://www.ferc.gov/docs-filing/docs-filing.asp. An eRegistration account is required for all persons logging in to the system and for persons who will be listed as a primary contact or person responsible for the filing. At the present time, only public information can be submitted via the efiling system. However, all Order No. 890 OATT filings are considered public.

The Commission prefers filings in text-searchable formats. Our standard word processing application is MS Word, but the efiling system can also accept documents in WordPerfect and PDF formats. The Commission will add notice of these filings to its Combined Notice of Filing Report, so it is not necessary to include a “Form of Notice” file as part of an Order No. 890 OATT compliance submission.

The general eFiling procedure for Order No. 890 compliance OATT efilings is:

1. For Order No. 890 OATT compliance related submissions, the header of the document should contain OA07__000 (or OA08 after September 30, 2007) unless you are filing a correction or supplement to a previously assigned OA docket. NERC/NAESB submissions should refer to RM05-17 and RM05-25.

2. Select the filing type “Order No. 890 OATT”. For NERC/NAESB status reports only, select “Production of Document”.

3. On the Select Docket screen, enter OA07-1 in the docket number search block and select OA7-1-000 from the search results. A new OA Docket will be assigned to your submission. For NERC/NAESB status reports only, query and select dockets RM05-17 and RM05-25.

4. Before you browse, select, and attach the file(s) make sure that the file name is less than 25 characters and contains no spaces or special characters. There is a maximum number of 10 files per session and no file should be larger than 10 Mb.

5. On the Submission Description Screen, modify the default description:

(1) For OATT submissions, replace “Order No. 890 OATT” with the description information in the table for the appropriate filing type, or a comparable description, to describe your submission.

(2) For NERC/NAESB status reports only, replace “Production of Document” with the description information in the table for the appropriate filing type or a comparable description.

(3) For any amendment or correction to a prior submission, select the OA Docket assigned to the prior filing and add “Correction to”, “Supplement to”, or other appropriate indicator to the edited description of the filing.

6. Upon receipt, the eFiling system will send a Confirmation of Receipt e-mail to the e-mail address for the log in account.

Order No. 890 OATT submissions will be stored in eLibrary in the “Electric” library with Class = Application/Petition/Request, Type = Tariff Filing, and the OA docket number assigned to the submission.

NERC/NAESB status reports will be stored in the “Electric” library with Class = Status Report, Type = Status Report, and docket numbers RM05-17 and RM05-25.

Please be advised that all voluntary section 205 OATT related filings proposing variations from the non-rate terms and conditions contained in the pro forma OATT adopted in Order No. 890 will continue to be assigned ER Docket Numbers and will not be assigned OA Docket Numbers associated with the implementation of the Order No. 890 compliance filings.⁵

⁵ With the exception of the optional section 205 implementation filing described in Order No. 890 at P 138-139.

Deadline: Days from Mar. 15, 2007 (FR publication) | Compliance action | Final rule paragraph No.
30 Days, or April 16, 2007 | Optional Implementation FPA section 205 filings allowing transmission providers to propose previously approved variations from the pro forma OATT that have been affected by pro forma OATT Final Rule reforms to remain in effect subject to a demonstration that such variations continue to be consistent with or superior to the revised Final Rule pro forma OATT (non RTO/ISO transmission providers). Such optional filings must request a 90 day effective date to facilitate Commission review under section 205 | ¶ 139
| Filing Type: Order No. 890 OATT.
| File Under Docket OA07-1; new OA Docket will be assigned.
| Description: Implementation FPA section 205 filing.
60 days, or May 14, 2007 | Non-ISO/RTO transmission providers submit FPA section 206 filings that contain the non-rate terms and conditions set forth in Final Rule. These filings need only contain the revised provisions adopted in the Final Rule. Transmission providers utilizing the optional Implementation FPA section 205 filing described above, need only submit tariff sheets necessary to implement the remaining modifications required under the Final Rule, i.e., modifications related to tariff provisions that did not implicate previously-approved variations | ¶ 135
| Filing Type: Order No. 890 OATT.
| File Under Docket OA07-1; new OA Docket will be assigned.
| Description: FPA section 206 filing with non-rate terms and conditions.
75 days, or May 29, 2007 | Transmission Providers must post a “strawman” proposal for compliance with each of the nine planning principles adopted in the Final Rule. This may be posted on the Transmission Providers Web site or its OASIS site | ¶ 443
| No Filing Requirement with FERC.
90 days, or June 13, 2007 | NERC/NAESB status report and work plan for completion of ATC related business practices and standards. | ¶ 223
| Filing Type: Production of Document.
| File Under Docket RM05-17 and RM05-25.
| Description: NERC/NAESB status report and work plan for completion of ATC related business practices and standard.
90 days, or June 13, 2007 | NAESB status report and work plan for completion of OASIS functionality or uniform business practices (other than those related to ATC) | ¶ 141
| Filing Type: Production of Document.
| File Under Docket RM05-17 and RM05-25.
| Description: NAESB status report and work plan for completion of OASIS functionality or uniform business practices.
120 days, or July 13, 2007 | Transmission Providers must submit redesigned transmission charges that reflect the Capacity Benefit Margin set-aside through a limited issue section 205 rate filing as part of their initial ATC related compliance filings | ¶ 263
| Filing Type: Order No. 890 OATT.
| File Under Docket OA07-1; new OA Docket will be assigned.
| Description: Redesigned Transmission Charges.
180 days, or Sept.11, 2007 | Submit compliance filings with Attachment C (ATC) of the pro forma OATT | ¶ 140
| Filing Type: Order No. 890 OATT.
| File Under Docket OA07-1; new OA Docket will be assigned.
| Description: Attachment C Compliance Filing.
210 days, or Oct. 11, 2007 | ISOs and RTOs, and transmission providers located within an ISO/RTO footprint, submit FPA section 206 filings that contain the non-rate terms and conditions set forth in the Final Rule. These filings need only contain the revised provisions adopted in the Final Rule or a demonstration that previously approved variations continue to be consistent with or superior to the revised pro forma OATT | ¶ 157, ¶ 161
| Filing Type: Order No. 890 OATT.
| File Under Docket OA07-1; new OA Docket will be assigned.
| Description: FPA Section 206 Filing With Non-Rate Terms and Conditions.
210 days, or Oct. 11, 2007 | Submit compliance filings with Attachment K (Planning) of the pro forma OATT or RTOs and ISOs file a demonstration that their planning processes are consistent with or superior to the planning principles in the Final Rule | ¶ 140, ¶ 442
| Filing Type: Order No. 890 OATT.
| File Under Docket OA07-1; new OA Docket will be assigned.
| Description: Attachment K Compliance Filing.
N/A | Transmission Providers must file a revised Attachment C to incorporate any changes to NERC's and NAESB's reliability and business practice standards to achieve consistency in ATC within 60 days of completion of the NERC and NAESB processes | ¶ 325
| Filing Type: Order No. 890 OATT.
| File Under Docket OA07-1; new OA Docket will be assigned.
| Description: Revised Attachment C Filing.
N/A | After the submission of FPA section 206 compliance filings, transmission providers may submit FPA section 205 filings proposing rates for the services provided for in the tariff, as well as non-rate terms and conditions that differ from those set forth in the Final Rule if those provisions are “consistent with or superior to” the pro forma OATT | ¶ 135
| Do not eFile. File according to procedures current at the time of submission for FPA section 205 filings.

If you are unable to file electronically, you must submit original and 5 paper copies of the filing to: Kimberly D. Bose, Secretary, Federal Energy Regulatory Commission, 888 First Street, NE., Washington, DC 20426.

[FR Doc. E7-7000 Filed 4-12-07; 8:45 am]

BILLING CODE 6717-01-P